FEDERAL COMMUNICATIONS COMMISSION

47 CFR Part 73

[DA 03-2704]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and the Amendment of the Commission's Rules to permit FM Channel and Class Modifications [Upgrades] by Applications, 8 FCC Rcd 4735 (1993).

DATES: Effective September 19, 2003.

FOR FURTHER INFORMATION CONTACT: Kathleen Scheuerle, Media Bureau, (202) 418-2180.

SUPPLEMENTARY INFORMATION: This is a summary of the Commission's Report and Order, adopted September 3, 2003, and released September 5, 2003. The full text of this Commission decision is available for inspection and copying during normal business hours in the Commission's Reference Center, 445 12th Street, SW., Washington, DC. The complete text of this decision may also be purchased from the Commission's copy contractor, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Alabama, is amended by removing Channel 295C and adding Channel 295C0 at Birmingham, by removing Channel 243C and adding Channel 243C0 at Birmingham, and by removing Channel 244C3 and adding Channel 244C2 at Pine Hill.

3. Section 73.202(b), the Table of FM Allotments under Arizona, is amended by removing Channel 246C3 and adding Channel 246A at Green Valley.

4. Section 73.202(b), the Table of FM Allotments under Georgia, is amended by removing Channel 266C3 and adding Channel 226C2 at Blakely.¹

¹ The FM Table of Allotments shows Channel 266C3 at Blakely, Georgia, in lieu of Channel 226C3. Channel 226C3, not Channel 266C3, was allotted to Blakely in MM Docket No. 91-319. See 57 FR 5392, February 14, 1992.

5. Section 73.202(b), the Table of FM Allotments under Missouri, is amended by removing Channel 264C1 and adding Channel 266C0 at Harrisonville.²

² The FM Table of Allotments shows Channel 264C1at Harrisonville, Missouri, in lieu of Channel 266C1. Channel 266C1 was substituted for Channel 264C1 at Harrisonville in MM Docket No. 89-96. See 54 FR 47773, November 17, 1989.

6. Section 73.202(b), the Table of FM Allotments under South Carolina, is amended by removing Channel 259C and adding Channel 259C1 at Hollywood.

7. Section 73.202(b), the Table of FM Allotments under Texas, is amended by removing Channel 281C and adding Channel 281C0 at Edinburg.

8. Section 73.202(b), the Table of FM Allotments under the Virgin Islands, is amended by removing Channel 269B1 and adding Channel 269A at Frederiksted.

Federal Communications Commission.
John A. Karousos,
Assistant Chief, Audio Division, Media Bureau.

[FR Doc. 03-23928 Filed 9-18-03; 8:45 am]

BILLING CODE 6712-01-P